DEPARTMENT OF COMMERCE

National Oceanic and Atmospheric Administration

50 CFR Part 648

[Docket No. 201209-0332; RTID 0648-XX064]

Fisheries of the Northeastern United States; Atlantic Bluefish Fishery; 2021 Bluefish Specifications

AGENCY: National Marine Fisheries Service (NMFS), National Oceanic and Atmospheric Administration (NOAA), Commerce.

ACTION: Final rule.

SUMMARY: NMFS issues final specifications for the 2021 Atlantic bluefish fishery. This action is necessary to establish allowable harvest levels to prevent overfishing, consistent with the most recent scientific information, as required by the Magnuson-Stevens Fishery Conservation and Management Act and the Atlantic Bluefish Fishery Management Plan. This rule also informs the public of the final fishery specifications for the 2021 fishing year.

DATES: Effective on January 1, 2021.

ADDRESSES: The Mid-Atlantic Fishery Management Council prepared a Supplemental Information Report (SIR) for these specifications that describes the action and any changes from the original environmental assessment (EA) and analyses for the revised 2020 and 2021 specifications action. Copies of the SIR, original EA, and other supporting documents for this action, are available upon request from Dr. Christopher M. Moore, Executive Director, Mid-Atlantic Fishery Management Council, Suite 201, 800 N State Street, Dover, DE 19901. These documents are also accessible via the internet at https://www.mafmc.org/supporting-documents.

FOR FURTHER INFORMATION CONTACT: Cynthia Ferrio, Fishery Policy Analyst, (978) 281-9180.

SUPPLEMENTARY INFORMATION:

Background

The Mid-Atlantic Fishery Management Council and the Atlantic States Marine Fisheries Commission jointly manage the bluefish fishery under the Atlantic Bluefish Fishery Management Plan (FMP). The FMP requires the specification of the acceptable biological catch (ABC), annual catch limit (ACL), annual catch targets (ACT), commercial quota, recreational harvest limit, and other management measures for up to 3 years at a time. This action implements bluefish specifications for the 2021 fishing year.

The August 2019 bluefish operational assessment concluded that the Atlantic bluefish stock is overfished but not subject to overfishing. The most recent data update (2020) showed increases in both commercial and recreational catch in 2019 from 2018, but no change in the stock status determination from the 2019 assessment. Based on this best available scientific information, 2021 specifications were proposed with no changes from those implemented for 2020, except for a reduction of 1.14 million lb (515,811 kg) in the recreational total allowable landings (TAL) and recreational harvest limit (RHL) to account for higher reported recreational discards in 2019 than initially projected.

The proposed rule for this action published in the Federal Register on November 5, 2020 (85 FR 70573), and comments were accepted through November 20, 2020. Additional background information regarding the development of these specifications was provided in the proposed rule and is not repeated here. NMFS received five comments from the public, and no changes to the final rule are necessary as a result of those comments (see Comments and Responses for additional detail).

Final Specifications

This action implements the Council and Commission's recommendations for 2021 bluefish catch specifications (Table 1), as outlined in the proposed rule. These specifications are status quo relative to 2020, except for a 12-percent reduction in the recreational TAL and RHL to account for the most recent catch data. The recreational fishery is expected to fully achieve the RHL. Therefore, this action does not include a quota transfer to the commercial fishery, which is authorized in the FMP up to a specified amount only if the recreational fishery is not projected to achieve the RHL. This action does not change any other 2021 fishery management measures, including the daily recreational bag limits.

Table 1—Summary of Final 2021 Bluefish Specifications *
| Final 2021 specifications: million pounds | Final 2021 specifications: metric tons
Overfishing Limit | 37.98 | 17,228
ABC = ACL | 16.28 | 7,385
Commercial ACT | 2.77 | 1,255
Recreational ACT | 13.51 | 6,130
Commercial TAL | 2.77 | 1,255
Recreational TAL | 8.34 | 3,785
Sector Transfer | 0.00 | 0
Commercial Quota | 2.77 | 1,255
Recreational Harvest Limit | 8.34 | 3,785
* Specifications are derived from the ABC in metric tons (mt). When values are converted to millions of pounds the numbers may slightly shift due to rounding. The conversion factor used is 1 mt = 2204.62262 lb.

The state commercial quota allocations for 2021 (Table 2) are based on the final coastwide commercial quota for 2021, and the allocation percentages defined in the FMP. No state exceeded its allocated quota in 2019, nor is projected to do so in 2020; therefore, no accountability measures are necessary for the 2021 commercial fishery.

Table 2—2021 Bluefish State Commercial Quota Allocations
State | Percent share | Quota (lb) | Quota (kg)
Maine | 0.67 | 18,503 | 8,391
New Hampshire | 0.41 | 11,473 | 5,203
Massachusetts | 6.72 | 185,904 | 84,310
Rhode Island | 6.81 | 188,434 | 85,458
Connecticut | 1.27 | 35,049 | 15,895
New York | 10.39 | 287,438 | 130,357
New Jersey | 14.82 | 410,082 | 185,978
Delaware | 1.88 | 51,985 | 23,576
Maryland | 3.00 | 83,084 | 37,680
Virginia | 11.88 | 328,800 | 149,116
North Carolina | 32.06 | 887,377 | 402,438
South Carolina | 0.04 | 974 | 442
Georgia | 0.01 | 263 | 119
Florida | 10.06 | 278,432 | 126,273
Total | 100.00 | 2,767,793 | 1,255,235

The Council is developing a rebuilding plan for the bluefish stock that will be implemented by the end of November 2021. This rebuilding plan will inform development of the next set of specifications for fishing year 2022.

Comments and Responses

The public comment period for the proposed rule ended on November 20, 2020, and NMFS received five comments from the public. No changes to the proposed specifications were made as a result of these comments.

Comment 1: One comment voiced support for the action.

Response: NMFS agrees and is implementing the proposed specifications for the reasons outlined in the preamble to this rule.

Comment 2: Two comments were submitted by the same individual, who expressed frustration with the slow government process and suggested that an immediate shutdown of the fishery would be the best way to end overfishing and protect the bluefish stock. These comments also questioned the science used to determine the proposed catch limits.

Response: NMFS emphasizes the importance of the regulatory public process and is proceeding as quickly as possible within the applicable law. All of the analyses for this action have been conducted with the best scientific data available, and indicate that it is not necessary to fully close the bluefish fishery to promote stock recovery. A stable and sustainable bluefish fishery can be maintained while the stock rebuilds with minimal risk to the resource.

Comment 3: Another commenter disagreed with the way bluefish population is monitored and data used to determine stock health. The comment went on to claim that all available data indicates that bluefish stock is healthy and not overfished. The commenter then recommended that the proposed specifications should remain consistent with earlier years' catch limits, not reduce the RHL, and enable a transfer of quota to the commercial sector because the healthy stock status does not justify the proposed restrictions.

Response: NMFS disagrees with the commenter's evaluation of the bluefish stock. The August 2019 operational stock assessment incorporated data from several fishery dependent and independent surveys as well as the Marine Recreational Information Program. This assessment was peer reviewed before publication, and is the best scientific information available concerning bluefish stock health. The assessment determined the bluefish stock to be overfished, and a data update this year (2020) confirmed this status has not changed. Restrictions to management measures were implemented in February 2020 (85 FR 11863; February 28, 2020) to prevent overfishing on the overfished stock, as required by the Magnuson-Stevens Fishery Conservation and Management Act (Magnuson-Stevens Act). These specifications reduce the RHL to further reduce the risk of overfishing to an acceptable level, and there is no sector quota transfer to the commercial fishery because the recreational sector is expected to fully catch its entire allocated quota.

Comment 4: The final commenter asked about the differences between state commercial quotas in the proposed specifications compared to 2020, and how NMFS calculates the coastwide bluefish population.

Response: The proposed coastwide commercial quota is unchanged from 2020, and the percentage that each state is allocated has not changed since the allocations were established in Amendment 1 to the FMP (65 FR 45844; July 26, 2000). There may be a perceived proportional difference in final state quotas due to state-to-state transfers that have taken place throughout the 2020 fishing year. These transfers are authorized in the FMP, completed through mutual agreement between respective state agencies, and are not an accountability measure. Revision of state allocations is being reviewed in Bluefish Amendment 7, currently in development. The bluefish stock is evaluated through regular stock assessments, which incorporate data from a variety of fishery dependent and independent surveys.

Changes From the Proposed Rule

There are no substantive changes from the proposed rule.

Classification

Pursuant to section 304(b)(3) of the Magnuson-Stevens Act, the NMFS Administrator, Greater Atlantic Region, has determined that this final rule is necessary for the conservation and management of the Atlantic bluefish fishery, and that it is consistent with the Atlantic Bluefish FMP, other provisions of the Magnuson-Stevens Act, and other applicable law.

The Assistant Administrator for Fisheries, NOAA, finds good cause under 5 U.S.C. 553(d)(3) to waive the 30-day delay in effective date for this rule to ensure that the final specifications are in place as close as practicable to the start of the bluefish fishing year on January 1, 2021. This action establishes the final specifications (i.e., ACLs) for the 2021 bluefish fishery. A delay in effectiveness well beyond the start of the fishing year would be contrary to the public interest, as it could create confusion in the commercial bluefish industry.

Furthermore, this rule is being issued at the earliest possible date. The proposed rule was prepared in October and published by early November 2020, and the public comment period ended on November 20, 2020. Ideally, this final rule should publish in time to be effective for the January 1 start of the fishing year to allow state agencies to use the implemented commercial quota allocations to set annual state management measures. A 30-day delay in effectiveness would needlessly postpone implementation of final 2021 specifications well into the fishing year, which is contrary to the public interest. The longer these specifications are delayed, the longer it will take for some states to implement respective regulations.

The 30-day delay in implementation for this rule is also unnecessary because this rule contains no new measures (e.g., requiring new nets or equipment) for which regulated entities need time to prepare or revise their current practices. Unlike actions that require an adjustment period to comply with new rules, bluefish fishery participants will not have to purchase new equipment or otherwise expend time or money to comply with these status quo management measures. Therefore, there would be no benefit to delaying the implementation of these specifications.

For these reasons, NMFS finds that a 30-day delay in effectiveness would be contrary to the public interest, and therefore waives the requirement consistent with 5 U.S.C. 553(d)(3).

This final rule is exempt from review under Executive Order 12866 because the action contains no implementing regulations.

The Chief Counsel for Regulation of the Department of Commerce certified to the Chief Counsel for Advocacy of the Small Business Administration during the proposed rule stage that this action would not have a significant economic impact on a substantial number of small entities. The factual basis for the certification was published in the proposed rule and is not repeated here. No comments were received regarding this certification, and the initial certification remains unchanged. As a result, a final regulatory flexibility analysis was not required and none was prepared.

This action contains no information collection requirements under the Paperwork Reduction Act of 1995.

Authority: 16 U.S.C. 1801 et seq.

Dated: December 9, 2020.
Samuel D. Rauch III,
Deputy Assistant Administrator for Regulatory Programs, National Marine Fisheries Service.

[FR Doc. 2020-27522 Filed 12-15-20; 8:45 am]

BILLING CODE 3510-22-P